ENVIRONMENTAL PROTECTION AGENCY

[EPA-HQ-2022-0260; FRL-8464-03-OW]

Consumer Confidence Report Rule Revision: Virtual Listening Session

AGENCY: Environmental Protection Agency (EPA).

ACTION: Notice of public meeting.

SUMMARY: The Environmental Protection Agency (EPA) will host a virtual, public, listening session on April 26, 2022. The goal of this event is to obtain further public input on EPA's revision to the Consumer Confidence Report (CCR) Rule from public water systems, environmental groups, public interest groups, risk communication experts, the States, and other interested parties. EPA will also be seeking input from individuals and communities that have historically been, as well as those that currently are, underserved by public health planning, policies, and practices and those communities that are most vulnerable to environmental injustices. For more information on this event see the SUPPLEMENTAL INFORMATION section of this announcement.

DATES: EPA will host a virtual, public, listening session on April 26, 2022, from 2 p.m. to 5 p.m., eastern time. Further details on registration for this event will be posted on EPA's drinking water website at: https://www.epa.gov/ccr.

ADDRESSES: Individuals, including those that attend and provide oral statements, are encouraged to send written comments, identified by Docket ID EPA-HQ-OW-2022-0260, by the following method:

Federal eRulemaking Portal: https://www.regulations.gov (our preferred method). Follow the online instructions for submitting comments.

Instructions: All submissions received must include the Docket ID No. EPA-HQ-OW-2022-0260 for this EPA event. For detailed instructions on sending comments, see the “Public Participation” heading of the SUPPLEMENTARY INFORMATION section of this announcement.

FOR FURTHER INFORMATION CONTACT: Sarah Bradbury, U.S. EPA, 1200 Pennsylvania Avenue NW, Washington, DC, 20460; telephone number: 202-564-3116; email address: OGWDWCCRrevisions@epa.gov.

SUPPLEMENTARY INFORMATION

I. Public Participation

A. Written Comments

Submit your comments, identified by Docket ID EPA-HQ-OW-2022-0260, at https://www.regulations.gov. Once submitted, comments cannot be edited or removed from the docket. EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e., on the web, cloud, or other file sharing system). For the full EPA public comment policy, information about CBI or multimedia submissions, and general guidance on making effective comments, please visit http://www.epa.gov/dockets/commenting-epa-dockets.

B. Details About Participating in the Listening Session

The public is invited to speak during the upcoming listening session on April 26, 2022. Further information on how to sign-up for a 5-minute speaking slot during the listening session will be posted on EPA's website at https://www.epa.gov/ccr. EPA intends to also make the listening session available for viewing to those who are not participating and are interested in listening only. Potential topics of discussion for speakers who sign-up for the listening session may include, but are not limited to:

1. Tools that address challenges to developing CCRs.

2. CCR delivery methods, including electronic delivery options.

3. Considerations and concerns related to underserved communities and environmental justice.

4. Opinions on biannual delivery, including timing and content of reports.

5. CCR accessibility challenges and solutions.

6. Improving readability, clarity, understandability, accuracy, and risk communication of the information presented in CCRs.

EPA will be posting additional information on registration and speaker sign-up for the listening session on https://www.epa.gov/ccr as it becomes available.

Eric G. Burneson,
Acting Director, Office of Ground Water and Drinking Water.

[FR Doc. 2022-08480 Filed 4-20-22; 8:45 am]

BILLING CODE 6560-50-P